DEPARTMENT OF THE TREASURY

Internal Revenue Service

Open Meeting of Citizen Advocacy Panel, Brooklyn District

AGENCY: Internal Revenue Service (IRS), Treasury.

ACTION: Notice.

SUMMARY: An open meeting of the Brooklyn District Citizen Advocacy Panel will be held in Flushing, New York.

DATES: The meeting will be held Wednesday, June 7, 2000.

FOR FURTHER INFORMATION CONTACT: Eileen Cain at 1-888-912-1227 or 718-488-3555.

SUPPLEMENTARY INFORMATION: Notice is hereby given pursuant to section 10(a)(2) of the Federal Advisory Committee Act, 5 U.S.C. app. (1988), that an operational meeting of the Citizen Advocacy Panel will be held Wednesday, June 7, 2000, 7:30 p.m. to 9:30 p.m. at the Queens Borough Public Library at 41-17 Main Street, Flushing, N.Y. 11355. If you are in need of a hearing impaired or a language interpreter or for more information please contact Eileen Cain. Mrs. Cain can be reached at 1-888-912-1227 or 718-488-3555. The public is invited to make oral comments from 7:30 p.m. to 9:30 p.m. on Wednesday, June 7, 2000. Individual comments will be limited to 5 minutes. If you would like to have the CAP consider a written statement, please call 1-888-912-1227 or 718-488-3555, or write Eileen Cain, CAP Office, P.O. Box R, Brooklyn, NY 11202.

The Agenda will include the following: introductions of the panel and open discussions with the public.

Note: Last minute changes to the agenda are possible and could prevent effective advance notice.

Dated: April 28, 2000.
M. Cathy VanHorn,
Director, CAP, Communications & Liaison.

[FR Doc. 00-12203 Filed 5-15-00; 8:45 am]

BILLING CODE 4830-01-U